DEPARTMENT OF THE INTERIOR

Bureau of Land Management

[OR 020-02-1610-DO-241A,HAG02-0007]

Harney and Malheur Counties, OR; Andrews Resource Area, Steens Mountain; Resource Management Plan

AGENCY: Bureau of Land Management, Burns District, Andrews Field Office.

ACTION: Notice of Intent to (1) prepare a Resource Management Plan (RMP) for the Andrews Resource Area (ARA) and (2) prepare a management plan for the Steens Mountain Cooperative Management and Protection Area (CMPA), designated October 30, 2000. These actions will be addressed in a single Environmental Impact Statement (EIS). The ARA is located in Harney and Malheur Counties, Oregon. The CMPA lies solely within Harney County, largely within the ARA, and to a lesser extent, within the Three Rivers Resource Area (RA), Burns District.

SUMMARY: This document provides notice that the Bureau of Land Management (BLM) intends to prepare an RMP, with an associated EIS, for the ARA/CMPA. This planning activity encompasses approximately 1,723,564 acres of public land, including 425,550 acres in the CMPA. The area to be addressed involves the ARA, the CMPA, and a small segment of the Burns District's Three Rivers RA, which is included in the CMPA. Depending on the alternative selected and approved, a portion of the Three Rivers RMP may be amended by this planning effort.

The plan will fulfill the needs and obligations set forth by the National Environmental Policy Act (NEPA), the Federal Land Policy and Management Act (FLPMA), the Steens Mountain Cooperative Management and Protection Act of 2000 (Act), and BLM management policies. The analysis and resulting decisions will also meet the requirements of the Wilderness Act and Wild and Scenic Rivers Act, as applicable. The BLM will work closely with the Steens Mountain Advisory Council (SMAC), a citizen's advisory group established by the Act, and with other interested parties to collaboratively identify the management decisions that are best suited to local, regional and national needs and concerns.

This notice gives early notification of the public scoping process, which is designed to identify planning issues and develop planning criteria. The SMAC will initiate the scoping process through its work on preliminary planning issues, criteria and alternatives. The scoping process will also include opportunity for internal and external review of the existing management plan.

DATES: The formal scoping comment period is expected to begin in January 2002 with publication of a notice in local newspapers and other media. Formal scoping will end sixty days after publication of that notice. At least 15 days public notice will be given for activities for which the public is invited to attend. Written comments will be accepted throughout the planning process at the address shown below.

Public Participation

The SMAC will be the primary public advisory group for this planning effort. In addition, open-house type public meetings will be held during the scoping and plan preparation period. Public meetings will be held in Burns, Oregon, and at other communities as interest warrants. Early participation by all those interested is encouraged and will help determine the future management of the CMPA and ARA. All public comments and lists of attendees for each meeting will be available to the public and open for 30 days to participants who wish to clarify the views they expressed. Meetings and comment deadlines will be announced through the local news media, newsletters and the Burns BLM web site (www.or.blm.gov/Burns/). I n addition to the ongoing public participation process, formal opportunities for public participation will be provided through comment on the alternatives and upon publication of the Draft RMP/EIS.

ADDRESSES: Written comments should be sent to Andrews Resource Management Plan, Bureau of Land Management, Burns District Office, HC 74-12533, Highway 20 West, Hines, Oregon 97738; Fax (541) 573-4411, or e-mail (rkarges@or.blm.gov). Documents pertinent to this proposal may be examined at the Burns District Office in Hines, Oregon. Comments, including names and street addresses of respondents, will be available for public review at the Burns District Office during regular business hours, 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Rhonda Karges, Telephone (541) 573-4433 or Gary Foulkes, Telephone (541) 573-4541 at the BLM Burns District Office.

SUPPLEMENTARY INFORMATION: The creation of the CMPA, including 169,465 acres of the newly created Steens Mountain Wilderness Area, along with the changing needs and interests of the public, necessitate formulation of the Andrews/Steens RMP. The new ARA RMP and the management plan for the CMPA will be combined into one planning effort. In addition, management plans for the Steens Wilderness and WSRs, as well as a transportation plan for the CMPA will be incorporated into the RMP.

Some preliminary issues and management concerns were identified when the Act was developed, through subsequent meetings with individuals and user groups, and by BLM personnel. Major issue themes that will be addressed in the plan effort include: upland and watershed management; riparian areas and wetlands; woodlands management; vegetation; wildlife habitat; special status species; energy and minerals; special management areas; fire/fuels management; recreation management; lands and realty issues; wild horses; cultural resources; noxious weeds; Off Highway Vehicle management; water quality/aquatic resources/fisheries; transportation; and socio-economics. After gathering public comments on issues that the plan should address and reviewing them in concert with the SMAC, the issues will be placed in one of three categories:

1. Issues to be resolved in the plan;

2. Issues resolved through policy or administrative action; or

3. Issues beyond the scope of the plan.

Rationale will be provided in the plan for each issue placed in category two or three. In addition to these major issues, a number of management questions and concerns will be addressed in the plan. The public is encouraged to help identify these questions and concerns during the scoping phase. An interdisciplinary approach will be used to develop the plan in order to consider the variety of resource issues and concerns identified. Disciplines involved in the planning process will include (but not be limited to) those with expertise in rangeland management, minerals and geology, botany, forestry, outdoor recreation, wilderness management, archaeology, paleontology, wildlife and fisheries, lands and realty, hydrology, soils, sociology and economics.

Background Information

The CMPA was established through an Act of Congress (P.L. 106-399). Special Management Areas created within the CMPA include: the Wildland Juniper Management Area; the Steens Mountain Wilderness, which contains a No Livestock Grazing Area; new Wild and Scenic River (WSR) designations; and a Redband Trout Reserve. Congress recognized that the CMPA fosters exceptional cooperative management opportunities and offers outstanding natural, cultural, scenic, wilderness, and recreational resources. To ensure those resources are appropriately managed, the Act mandated that BLM prepare a management plan for the CMPA by October 30, 2004.

In 1995, preparation of the Southeastern Oregon Resource Management Plan (SEORMP) was initiated by the BLM, Vale and Burns District Offices. The SEORMP initially included the ARA. As a result of the Act, however, the Andrews Field Office determined it was necessary to create a separate RMP for the ARA and CMPA to address changes in management resulting from the Act.

Consequently, the ARA is no longer addressed in the SEORMP. The ARA has been managed under the Andrews Management Framework Plan since 1982 and the grazing decisions in the Andrews Rangeland Program Summary (RPS) since 1984. Part of a 900,000 acre Mineral Withdrawal Area designated by the Act is within Malheur County and Vale District's Jordan Resource Area, and the effects of the withdrawal on those lands have been addressed in the SEORMP.

Miles Brown,
Andrews Field Office Manager.

[FR Doc. 01-30222 Filed 12-5-01; 8:45 am]

BILLING CODE 4310-33-P